SECURITIES AND EXCHANGE COMMISSION

Sunshine Act Meeting

Federal Register Citation of Previous Announcement: (65 FR 19240, April 18, 2003).

Status: Closed meeting.

Place: 450 Fifth Street, NW., Washington, DC.

Announcement of Additional Meeting: Additional meeting.

A Closed Meeting will be held on Thursday, April 24, 2003 at 10:30 a.m. to continue discussion of agenda items from the Tuesday, April 22, 2003 Closed Meeting.

Commissioner Atkins, as duty officer, determined that no earlier notice thereof was possible.

Commissioners, Counsel to the Commissioners, the Secretary to the Commission, and recording secretaries will attend the Closed Meeting. Certain staff members who have an interest in the matter will attend the Closed Meeting.

At times, changes in Commission priorities require alterations in the scheduling of meeting items. For further information and to ascertain what, if any, matters have been added, deleted or postponed, please contact the Office of the Secretary at (202) 942-7070.

Dated: April 23, 2003.
Jonathan G. Katz,
Secretary.

[FR Doc. 03-10376 Filed 4-23-03; 12:20 am]

BILLING CODE 8010-01-U